DEPARTMENT OF JUSTICE

Notice of Lodging of Proposed Consent Decree Under the Comprehensive Environmental Response, Compensation, and Liability Act

On December 14, 2017, the Department of Justice lodged a proposed Consent Decree with the United States District Court for the Northern District of New York in the lawsuit entitled United States v. Honeywell International Inc., Civil Action No. 5:17-cv-01344-FJS-DEP. In a civil action filed under Section 107(a) of the Comprehensive Environmental Response, Compensation, and Liability Act, 42 U.S.C. 9607(a) (CERCLA), on December 14, 2017, the United States sought recovery from Honeywell International Inc. (“Honeywell”) of costs of response action at the Onondaga Lake Superfund Site (Site) in Syracuse, New York. The proposed Consent Decree resolves the liability of defendant Honeywell for response costs incurred by the United States in connection with the Site.

The proposed Consent Decree requires Honeywell to pay $7.3 million in reimbursement of response costs incurred by the United States with respect to the Site. The proposed Consent Decree provides Honeywell with a covenant not to sue for response costs incurred by the United States in connection with the Site through the date of lodging of the Consent Decree. Honeywell previously entered into a settlement with the New York State Department of Environmental Conservation (NYSDEC) that required Honeywell to perform a cleanup of the Lake Bottom portion of the Site.

The proposed Consent Decree also resolves the liability of other potentially responsible parties (“Other Settling Parties”) who have previously settled (or may settle in the future) with Honeywell, and the United States provides the Other Settling Parties with a covenant not to sue for certain of the costs incurred by the United States in connection with the Site. The Other Settling Parties also agree to provide a covenant not to sue the United States for certain costs and natural resource damages in connection with the Site.

The proposed Consent Decree also resolves Honeywell's claim against the United States under Section 113(f) of CERCLA and requires the United States to reimburse Honeywell $6.25 million of Honeywell's costs incurred in cleaning up the Site. Honeywell alleges that certain federal agencies were liable for the disposal of contaminants at the Site during World War II. Under the proposed Consent Decree, Honeywell provides the United States with a covenant not to sue for response costs and natural resource damages incurred or to be incurred by Honeywell in connection with the Site.

The publication of this notice opens a period for public comment on the Consent Decree. Please address comments to the Assistant Attorney General, Environment and Natural Resources Division and refer to United States v. Honeywell International Inc. D.J. Ref. No. 90-11-3-08348. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost) payable to the United States Treasury.

Robert E. Maher, Jr.,
Assistant Section Chief, Environmental Enforcement Section, Environment and Natural Resources Division.

[FR Doc. 2017-27400 Filed 12-19-17; 8:45 am]

BILLING CODE 4410-15-P